Proclamation 10370 of April 15, 2022

National Volunteer Week, 2022

By the President of the United States of America

A Proclamation

Over the past year, we have seen that the American spirit of service is alive and well. Every day, Americans are giving their love and labor to care for seniors, help communities rebuild after disasters, support veterans and military families, tackle climate change, guide and mentor our youth, serve and strengthen the democratic process, feed the hungry, and keep communities healthy and safe. Tens of millions of Americans collectively volunteer billions of hours of their time each year. This commitment to service represents the best of who we are as Americans. During National Volunteer Week, we recognize the contributions that our Nation's volunteers make every day and encourage all Americans to discover their path to making a difference.

We also need to call on that spirit more than ever as we help our Nation recover from the COVID-19 pandemic. For example, we need volunteers in education to help students get back on track, and I encourage Americans to support our youth by serving as tutors and mentors or in other critical roles. As we tackle the pandemic and so many other challenges, government has a role to play, but our Nation is stronger, more connected, and best prepared for the future when government, nonprofits, community organizations, the private sector, and the American people work together.

Volunteering also benefits the volunteers. People who volunteer develop new skills, build their personal and professional networks, forge a deeper connection with their communities and service organizations, and experience the joy of serving a larger cause. The opportunities to volunteer are seemingly limitless. Students gain real world experience, workers apply their skills to organizations that benefit from their experience and often develop new skills in the process, and older Americans improve their health and longevity. At every age and stage in life, volunteers experience the profound joy of giving back.

Volunteerism is also a reinforcing cycle. Volunteers are more likely to become further involved in volunteer groups, participate in civic organizations, attend public meetings, and lend a helping hand to their neighbors. Serving together in common purpose has the power to unite us across the lines that sometimes divide. As I pursue a unity agenda in the Congress, volunteering serves as a unity agenda for our national life.

Vice President Harris and I salute all of our fellow Americans who take time to help others in need and the faith-based, nonprofit, national service, military service, and community organizations that make their service possible. My Administration is committed to encouraging and advancing volunteer service throughout our Nation and the world. Through AmeriCorps—a network of service programs across our country that helps meet community needs—we are removing barriers to service, expanding volunteer opportunities, and focusing on our Nation's toughest challenges. AmeriCorps increased the living allowance for national service members through funding from the American Rescue Plan and is working with partners to recruit volunteers in underserved communities so that service opportunities are more accessible. To serve communities abroad in their response and recovery efforts from the pandemic, the Peace Corps has developed criteria and processes to return volunteers around the world. I encourage all Americans to learn how get involved by visiting AmeriCorps.gov and peacecorps.gov/volunteer.

NOW, THEREFORE, I, JOSEPH R. BIDEN JR., President of the United States of America, by virtue of the authority vested in me by the Constitution and the laws of the United States, do hereby proclaim April 17 through April 23, 2022, as National Volunteer Week. I call upon all Americans to observe this week by volunteering in service projects across the country and pledging to make service a part of their daily lives.

IN WITNESS WHEREOF, I have hereunto set my hand this fifteenth day of April, in the year of our Lord two thousand twenty-two, and of the Independence of the United States of America the two hundred and forty-sixth.

[FR Doc. 2022-08614

Filed 4-19-22; 11:15 am]

Billing code 3395-F2-P